DEPARTMENT OF HEALTH AND HUMAN SERVICES

Centers for Disease Control and Prevention

[30Day-05-0440X]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5983 or send an e-mail to omb@cdc.gov. Send written comments to CDC Desk Officer, Office of Management and Budget, Washington, DC or by fax to (202) 395-6974. Written comments should be received within 30 days of this notice.

Proposed Project

Integrating HIV and Other Prevention Services into Reproductive Health and Other Community Settings On-Line Performance Reporting System—New—National Center for Chronic Disease Prevention and Health Promotion (NCCDPHP), Centers for Disease Control and Prevention (CDC).

Background and Brief Description

Integrating HIV and Other Prevention Services into Reproductive Health and Other Community Settings is a training project of the CDC, National Center for Chronic Disease Prevention and Health Promotion, and its grantees, their ten family planning regional training centers. The project requires twice yearly reports from its grantees (each of whom corresponds to one of the ten federal public health regions), on their training-centered intervention activities. CDC guidelines also obligate grantees, under cooperative agreements to provide such performance reporting. To facilitate grantees' compliance with performance reporting requirements, a secure online performance reporting system has been designed to capture training activity information, an indicator of consistent and measurable project progress. Each grantee enters and edits their own training activity data and generates project evaluation documents and semi-annual reports on the Internet. CDC will use the reported data to assess project progress towards achieving its objectives:

1. Measurable information about grantees' prevention training activities.

2. Evaluate prevention training needs, complexity, diversity, and availability.

3. Comparisons between the trained population and the general population of the local area.

4. Evaluate special cultural and regional needs.

5. Describe the complexity of the trained workforce.

6. Grant grantees access to on-line data reports.

Grantees' semi-annual performance reports are due April 30 and October 30 during each year of the 5-year cooperative agreement. Using the on-line system, grantees enter data during each reporting period, then, generate a copy of their training report. Next, by the specified dates, grantees deliver this performance report and their non-structured narrative report, which explains additions, deletions, changes, and redirections of training objectives or activities, to CDC's Procurement and Grants Office.

Grantees' on-line performance reports incorporate the following:

A. Log-in information.

• Cooperative agreement number.

• Grantee organization name.

• Fiscal year.

B. Information describing grantees and their partners.

• Grantee contact information.

○ Contact names for principal staff.

○ Phone numbers and email addresses.

○ Project roles and responsibilities.

○ Web site URL.

• Project partner information.

○ Relationship to grantee.

○ Organization of facility.

○ Mailing address.

○ Street location.

○ Partner contact name, phone number and email address.

○ Project role and responsibility.

• Application goals and objective information.

○ Statement of goals.

○ Statement of objectives.

○ Progress toward completion.

○ Barriers encountered.

○ Changes or modifications.

○ Lessons learned.

○ Project role and responsibility.

○ Due dates and delivery dates for semi-annual reports.

○ Where reports are electronically stored at CDC.

C. Activity information (for each activity).

○ Date of activity.

○ Type of activity.

○ Activity title or name.

○ Part of project activity relates to.

○ Project objective activity relates to.

○ Percent of activity funded by cooperative agreement.

○ Was partner involved in activity?

○ Name of partner.

○ Linked to technical assistance?

○ Which specific technical assistance?

D. Information describing traditional classroom training events (from each event).

• Training description.

○ Type of training.

○ Skill level of the training.

○ Is this the first offering of this training?

○ Total training hours.

○ Did training last multiple days?

○ Did training include skills practice activities?

○ Were continuing education credits offered?

○ Delivered in language other than English?

○ Location of training.

○ Were participants given learning objectives?

○ Was a pre-training knowledge test used?

○ Mean score on pre-training knowledge test.

○ Was a post-training knowledge test used?

○ Mean score on post-training knowledge test.

○ Was there a follow-up survey of this training?

○ Number of participants followed.

○ Number using new skills.

○ Follow-up time in weeks.

○ Participants.

○ Number of pre-registered participants.

○ Number of participants completing training.

○ From each participant, basic demographics “ age, ethnicity, primary racial identity, gender, staff title, staff position, language fluencies.

○ From each participant, employer characteristics—location, type of organization, title-X funded?, employer provides protocol related to this training?

E. Information describing distance learning events (from each event).

• Type.

• Location.

• Duration in hours.

• First-time offered?

• Offered in language other than English?

• Continuing medical education credits offered?

• Number of downlink sites, Web hits, media copies, etc.

○ Number of downlink site locations (for satellite broadcasts, Web conferences, etc).

○ Number of participants at site.

F. Information from Technical Assistance activities (for each activity).

• Type of technical assistance.

• Location.

• Was needs assessment done?

• Was an evaluation plan done?

• Was a logic model used?

• Number of items on evaluation checklist.

• Initial evaluation checklist score.

• Final evaluation checklist score.

G. Information describing meetings (for each meeting).

• Purpose.

• Total number of training staff present.

• Number of other regional partners present.

• Total attending.

• Number of organizations represented.

H. Information describing development (for each event).

• Type.

• Was all or some (portion) contracted out?

• Language developed in.

• Materials appropriate for low-literacy populations?

The information obtained from the on-line performance reporting system will help the CDC meet its evaluation objectives as described above. No proprietary items or sensitive information will be collected. There is no cost to respondents.

Estimate of Annualized Burden Table
Respondents | Number of respondents | Number of responses per respondent | Average burden ¹ per response (in hours) | Total burden (in hours)
Region 1 Grantee | 1 | 2 | 1.28 | 2.57
Region 2 Grantee | 1 | 2 | 1.28 | 2.57
Region 3 Grantee | 1 | 2 | 1.28 | 2.57
Region 4 Grantee | 1 | 2 | 1.28 | 2.57
Region 5 Grantee | 1 | 2 | 1.28 | 2.57
Region 6 Grantee | 1 | 2 | 1.28 | 2.57
Region 7 Grantee | 1 | 2 | 1.28 | 2.57
Region 8 Grantee | 1 | 2 | 1.28 | 2.57
Region 9 Grantee | 1 | 2 | 1.28 | 2.57
Region 10 Grantee | 1 | 2 | 1.28 | 2.57
¹ Estimate based on reporting of 20 events per grantee per semi-annual report, with each event requiring 3.85 minutes data-entry time.

Dated: August 30, 2005.
Joan F. Karr,
Acting Reports Clearance Officer, Centers for Disease Control and Prevention.

[FR Doc. 05-17767 Filed 9-7-05; 8:45 am]

BILLING CODE 4163-18-P